DEPARTMENT OF HEALTH AND HUMAN SERVICES

Administration for Children and Families

Proposed Information Collection Activity; Family Violence Prevention and Services Grants to States; Native American Tribes and Alaskan Native Villages; and State Domestic Violence Coalitions (Office of Management and Budget #0970-0280)

AGENCY: Office of Family Violence Prevention and Services; Administration for Children and Families; U.S. Department of Health and Human Services.

ACTION: Request for public comments.

SUMMARY: The Family Violence Prevention and Services Act (FVPSA) program within the Office of Family Violence Prevention and Services (OFVPS) plans to extend data collection for the Family Violence Prevention and Services Grants to States; Native American Tribes and Alaskan Native Villages; and State Domestic Violence Coalitions (Office of Management and Budget (OMB) #0970-0280; Expiration Date: May 31, 2024). Minor changes are proposed to the existing information collection.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Under the FVPSA, OFVPS has a legislative requirement for grantees to report on activities carried out throughout their grant period and provide an evaluation on the effectiveness of the activities in achieving the purposes of the grant. Grantees must collect unduplicated data and only share non-personally identifying information, in the aggregate, regarding services to their clients in order to comply with Federal, State, or Tribal reporting, evaluation, or data collection requirements (42 U.S.C. 10406(c)(5)(D)). Client-level data shall not be shared with a third party, regardless of encryption, hashing, or other data security measures, without a written, time-limited release as described in 42 U.S.C. 10406(c)(5).

Respondents: FVPSA-funded grantees.

Annual Burden Estimates
Instrument | Number of respondents | Total number of responses per respondent | Average burden hours per response | Total burden hours | Annual burden hours
FVPSA State Grants Notice of Funding Opportunity | 52 | 1 | 10 | 520 | 173
FVPSA Tribes/Tribal Organizations Grants Notice of Funding Opportunity | 143 | 1 | 10 | 1,430 | 500
FVPSA State Domestic Violence Coalitions Grants Notice of Funding Opportunity | 56 | 1 | 10 | 560 | 187
State FVPSA Grant Performance Progress Report | 52 | 3 | 8 | 1,248 | 416
Tribal FVPSA Grant Performance Progress Report | 143 | 3 | 8 | 3,432 | 1,144
State Domestic Violence Coalition Performance Progress Report | 56 | 3 | 8 | 1,344 | 448
Estimated Total Annual Burden Hours |  |  |  |  | 2,868

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Family Violence Prevention and Services Act, 42 U.S.C. 10401.

Mary C. Jones,
ACF/OPRE Certifying Officer.

[FR Doc. 2024-03843 Filed 2-23-24; 8:45 am]

BILLING CODE 4184-32-P